DEPARTMENT OF THE INTERIOR

Bureau of Land Management

[212.LLHQ230000.L11700000.PI0000. LXSGCO000000]

Notice to Re-Initiate Proposed Withdrawal; Sagebrush Focal Areas

AGENCY: Bureau of Land Management, Interior.

ACTION: Notice of re-initiation.

SUMMARY: In compliance with an Order from the United States District Court for the District of Idaho (the Court), this notice announces that the Secretary of the Interior is re-initiating consideration of the September 24, 2015, proposal by the Assistant Secretary for Land and Minerals Management, as amended on December 30, 2016, to withdraw approximately 10 million acres of public and National Forest System lands from location and entry under the United States mining laws to protect the Greater Sage-Grouse and its habitat, subject to valid existing rights. The lands included in this proposal are referred to as Sagebrush Focal Areas (SFAs). The Bureau of Land Management (BLM) had previously canceled the withdrawal application. The Court vacated cancellation of the withdrawal application and proposal and remanded to the BLM for further proceedings and consideration of whether the withdrawal is needed for sage grouse conservation. Accordingly, this notice announces that the BLM is now re-initiating the National Environmental Policy Act (NEPA) process to inform the Secretary's consideration of whether to withdraw any of the lands proposed for withdrawal. This notice does not segregate any of the lands described in the proposal, which, subject to any overlapping withdrawals, remain open to location and entry under the mining laws.

DATES: The BLM will shortly issue a new draft Environmental Impact Statement (EIS) and publish a Notice of Availability (NOA) initiating a public comment period.

FOR FURTHER INFORMATION CONTACT: Patricia Deibert, National Sage-grouse Coordinator (Acting), BLM Headquarters, at email: blm_hq_sfa_withdrawal@blm.gov; telephone: 307-757-3709. Persons who use a telecommunications device for the deaf (TDD) may call the Federal Relay Service (FRS) at 1-800-877-8339 to contact Ms. Seibert during normal business hours. The FRS is available 24 hours a day, 7 days a week, to leave a message or question. You will receive a reply during normal business hours.

SUPPLEMENTARY INFORMATION: On September 24, 2015, a Notice of Proposed Withdrawal was published in the Federal Register (80 FR 57635), as corrected (80 FR 63583), which provided notice of the proposal to withdraw approximately 10 million acres of Federal lands in Idaho, Montana, Nevada, Oregon, Utah, and Wyoming from location and entry under the United States mining laws for 20 years, subject to valid existing rights. The lands included in the proposed action are National System of Public Lands and National Forest System lands administered by the BLM and the United States Forest Service (USFS). The BLM is the agency lead for this proposed withdrawal.

On December 30, 2016, a Notice of Amended Proposed Withdrawal, Release of Draft Environmental Impact Statement, and Notice of Public Meetings; Idaho, Montana, Nevada, Oregon, Utah, and Wyoming was published in the Federal Register (81 FR 96478). The amended proposal added 387,981.42 acres in the State of Nevada and proposed boundary refinements in Idaho, Montana, Nevada, Oregon, Utah, and Wyoming that were identified because of legal land description refinements. The notice released for public comment a draft EIS, which analyzed and disclosed the impacts of the proposed withdrawal. The notice included a summary of scoping comments, the issues analyzed, and the alternatives considered in the draft EIS. The draft EIS can be found on BLM's National NEPA Register at https://eplanning.blm.gov/eplanning-ui/project/70697/510 (DOI-BLM-WO-WO3500-2016-0002-EIS). The BLM sought comments on the draft EIS from December 30, 2016, through March 28, 2017. The BLM received approximately 4,200 comment submissions on the draft EIS, of which approximately 192 submissions were unique.

A Notice of Cancellation of Withdrawal Application and Withdrawal Proposal and Notice of Termination of Environmental Impact Statement was published on October 11, 2017, in the Federal Register (82 FR 47248), which stated that the BLM had determined the lands were no longer needed in connection with the proposed withdrawal, and terminated the preparation of an EIS evaluating the application and proposal. The BLM canceled the application prior to responding to public comments and publishing a final EIS.

The cancellation was then vacated by the Court on February 11, 2021 (Western Watersheds Project v. Bernhardt, Case No. 1:16-cv-00083-BLW, EFC 264). The Court ordered the BLM to consider “whether the withdrawal is needed for sage-grouse conservation,” and that “[s]ich proceedings shall include re-initiation of the NEPA process.”

To comply with the Court's order and to review issues raised during the initial scoping and comment period for the draft EIS published on December 30, 2016, the BLM will issue a new draft EIS and publish an NOA initiating a public comment period. The withdrawal proposal will continue to be processed in accordance with the regulations set forth in 43 CFR part 2300. The process will inform a final decision as to whether to withdraw any of the lands proposed for withdrawal from location and entry under the mining laws. This notice does not segregate the lands because the segregation period for this withdrawal proposal expired on September 24, 2017. All the lands (unless subject to an existing withdrawal) remain open to location and entry under the mining laws.

The lands included in the withdrawal application were published in the previous notices. A description of the lands is posted on BLM's National NEPA Register at https://eplanning.blm.gov/eplanning-ui/project/70697/510 (DOI-BLM-WO-WO3500-2016-0002-EIS). Non-Federal mineral lands located within the boundaries of the proposed withdrawal areas will not be affected.

Thirty-one agencies and two American Indian Tribes entered into cooperating agency agreements with the BLM for the EIS process. The BLM will re-initiate participation with cooperating agencies for this NEPA process.

The BLM also contacted 53 American Indian governments via letter or face-to-face meetings during scoping and prior to the release of the draft EIS. The governments were provided a project update, an offer to provide more information, and an offer for government-to-government consultation. The BLM will re-initiate consultation with Indian tribes on a government-to-government basis in accordance with Executive Order 13175 and other policies for this NEPA process.

In accordance with 36 CFR 800.3(a)(1), the BLM previously determined that the proposed SFA withdrawal is an undertaking that has no potential to affect historic properties, assuming such historic properties were present, and therefore the agency official has no further obligation under the National Historic Preservation Act. The BLM informed 53 American Indian governments; the Idaho, Montana, Nevada, Oregon, Utah, and Wyoming State Historic Preservation Offices; and the Advisory Council on Historic Preservation of this determination of effect. This previous determination by the BLM remains accurate and will not be changed during re-initiated consideration of the withdrawal proposal.

David Jenkins,
Assistant Director, Resources and Planning.

[FR Doc. 2021-17359 Filed 8-12-21; 8:45 am]

BILLING CODE 4310-84-P